DEPARTMENT OF LABOR

Office of the Secretary

Submission for OMB Review; Comment Request

October 26, 2004.

The Department of Labor (DOL) and the Pension Benefit Guaranty Corporation have submitted the following public information collection requests (ICRs) to the Office of Management and Budget (OMB) for review and approval in accordance with the Paperwork Reduction Act of 1995 (Pub. L. 104-13, 44 U.S.C. Chapter 35). A copy of each ICR, with applicable supporting documentation, may be obtained by contacting the Department of Labor (DOL) or the Pension Benefit Guaranty Corporation (PBGC). To obtain documentation from DOL, contact Darrin King at 202-693-4129 (this is not a toll-free number) or e-mail: king.darrin@dol.gov. To obtain documentation from PBGC, contact Harold J. Ashner on 202-326-4024 (this is not a toll-free number) or e-mail: ashner.harold@pbgc.gov.

Comments should be sent to Office of Information and Regulatory Affairs, Attn: OMB Desk Officer for the Employee Benefits Security Administration (EBSA) and Pension Benefit Guaranty Corporation (PBGC), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Title: Annual Information Return/Report.

Form Number: Form 5500 and Schedules.

Frequency: On occasion and Annually.

Type of Response: Reporting; Recordkeeping; and Third-party disclosure.

Affected Public: Business or other for-profit; Not-for-profit institutions; Individuals or households; and Farms.

Paperwork Reduction Act Burden Breakout by Agency:

Agency | EBSA | PBGC
OMB Number | 1210-0110 | 1212-0057
Number of Respondents | 837,755 | 28,900
Number of Annual Responses | 837,755 | 28,900
Total Burden Hours | 1,948,529 | 2,373
Total Annualized capital/startup costs | $0 | $0
Total Annual Costs (operating/maintaining systems or purchasing services) | $663,870,000 | $1,737,078

Average response time: Varies considerably by plan size. Large plans may spend considerably more time reporting than small plans.

Description: Under Titles I and IV of the Employee Retirement Income Security Act of 1974, as amended, and the Internal Revenue Code of 1986, as amended (the Code), pension and other employee benefit plans are generally required to file annual returns/reports concerning, among other things, the financial condition and operations of the plan. These annual reporting requirements can be satisfied by filing the Form 5500 in accordance with its instructions and related regulations. The Form 5500 is the primary source of information concerning the operation, funding, assets and investments of pension and other employee benefit plans. In addition to being an important disclosure document for plan participants and beneficiaries, the Form 5500 is a compliance and research tool for EBSA, PBGC, and the IRS, and a source of information for other federal agencies, Congress, and the private sector for use in assessing employee benefit, tax, and economic trends and policies.

Ira L. Mills,
Departmental Clearance Officer, U.S. Department of Labor.

[FR Doc. 04-24660 Filed 11-3-04; 8:45 am]

BILLING CODE 4510-29-P